DEPARTMENT OF ENERGY

Federal Energy Regulatory Commission

[Project Nos. 2180-007—WI, 1979-012—WI, 2207-009—WI]

PCA Hydro Inc., Wisconsin Public Service Corporation, Mosinee Paper Corporation; Notice of Availability of Multi-Project Environmental Assessment

October 28, 2004.

In accordance with the National Environmental Policy Act of 1969 and the Federal Energy Regulatory Commission's regulations, 18 CFR part 380 (Order No. 486, 52 FR 47879), the Office of Energy Projects has reviewed the application for new license for the Grandmother Falls, Alexander, and Mosinee Projects, located on the Wisconsin River, in Lincoln and Marathon Counties, Wisconsin, and has prepared a Multi-Project Environmental Assessment (EA). In the EA, Commission staff analyze the potential environmental effects of relicensing the projects and conclude that issuing new licenses for the projects, with appropriate environmental measures, would not constitute major federal actions that would significantly affect the quality of the human environment.

A copy of the EA is on file with the Commission and is available for public inspection. The EA may also be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659.

Any comments should be filed within 30 days from the issuance date of this notice, and should be addressed to the Secretary, Federal Energy Regulatory Commission, 888 First Street, NE., Room 1-A, Washington, DC 20426. Please affix the appropriate project name and project number to all comments. Comments may be filed electronically via Internet in lieu of paper. The Commission strongly encourages electronic filings. See 18 CFR 385.2001(a)(1)(iii) and the instructions on the Commission's Web site under the “e-Filing” link. For further information, contact Michael Spencer at (202) 502-6093, or by e-mail michael.spencer@ferc.gov.

Magalie R. Salas,
Secretary.

[FR Doc. E4-3065 Filed 11-5-04; 8:45 am]

BILLING CODE 6717-01-P